DEPARTMENT OF THE INTERIOR

National Park Service

National Park Service Benefits-Sharing Final Environmental Impact Statement Record of Decision

AGENCY: National Park Service, Department of the Interior.

ACTION: Notice of Availability of the Record of Decision for the Servicewide Benefits-Sharing Final Environmental Impact Statement.

SUMMARY: Pursuant to the National Environmental Policy Act of 1969, 42 U.S.C. 4332(2)(C), the National Park Service announces the availability of the Record of Decision for the Benefits-Sharing Final Environmental Impact Statement (FEIS) covering all units of the National Park System. On March 5, 2010, the Deputy Director of the National Park Service approved the Record of Decision for the project. As soon as practicable, the National Park Service will begin to implement the Preferred Alternative contained in the FEIS issued on November 27, 2009. Three alternatives were evaluated in the FEIS, each of which would clarify the rights and responsibilities of researchers and NPS management in connection with the allocation of benefits from valuable discoveries, inventions, and other developments that result from research involving specimens lawfully collected from units of the National Park System. The No Action Alternative allows scientists to use material originating as National Park Service research specimens to conduct research that may lead to commercial products but without any obligation to share the benefits with the National Park Service. Another alternative prohibits scientific research involving National Park Service research specimens that is in any way associated with the development of commercial products. A third alternative, the Environmentally Preferred Alternative, allows the National Park Service and researchers who study material associated with a Scientific Research and Collecting Permit to enter into benefits-sharing agreements on a case-by-case basis before using their research results for any commercial purpose. This Environmentally Preferred Alternative has three considerations regarding the disclosure of financial information: Always disclose, never disclose, or comply with confidentiality laws regarding disclosure. The Preferred Alternative implements the benefits-sharing agreement requirement, while complying with confidentiality laws regarding disclosure of royalty rate or related information.

The Record of Decision includes a statement of the decision made, synopses of other alternatives considered, the basis for the decision, a description of the environmentally preferable alternative, a finding of no impairment of park resources and values, a listing of measures to minimize environmental harm, and an overview of public involvement in the decision-making process.

FOR FURTHER INFORMATION CONTACT: Susan Mills, Benefits-Sharing EIS, Center for Resources, P.O. Box 168, Yellowstone National Park, Wyoming 82190, (307) 344-2203, benefitseis@nps.gov.

SUPPLEMENTARY INFORMATION: Copies of the Record of Decision may be obtained from the contact listed above; online at http://parkplanning.nps.gov (select “Washington Office” from the park menu and then follow the link for benefits-sharing); in the office of the National Park Service Associate Director for Natural Resource Stewardship and Science, 1849 C Street, NW., Washington, DC; and in the office of the Superintendent, Yellowstone National Park, Wyoming.

Dated: March 5, 2010.
Daniel N. Wenk,
Deputy Director, National Park Service.

[FR Doc. 2010-7871 Filed 4-6-10; 8:45 am]

BILLING CODE P